DEPARTMENT OF TRANSPORTATION

DEPARTMENT OF THE INTERIOR

Federal Highway Administration

National Park Service

Environmental Impact Statement; Loudon, Fairfax, Fauquier, and Prince William Counties, VA

AGENCY: Federal Highway Administration (FHWA), DOT; National Park Service (NPS), DOI.

ACTION: Notice of intent.

SUMMARY: The FHWA is issuing this notice to advise the public that an environmental impact statement will be prepared, in cooperation with the National Park Service (NPS), for potential transportation improvements in the vicinity of the Manassas National Battlefield Park to address the Manassas National Battlefield Park Amendments Act of 1988 which require relocation of US Route 29 and VA Route 234 in the vicinity of the Park.

FOR FURTHER INFORMATION CONTACT: Jack Van Dop, Environmental Specialist, Federal Highway Administration, 21400 Ridgetop Circle, Sterling, VA 20166, Telephone 703-404-6282 or John Marsh, Project Manager, National Park Service, Denver Service Center, Telephone: (303) 969-2471.

SUPPLEMENTARY INFORMATION:

Electronic Access

An electronic copy of this document may be downloaded by using a computer, modem and suitable communications software from Government Printing Office's Electronic Bulletin Board Service at (202) 512-1661. Internet users may reach the Office of the Federal Register's home page at: http://www.nara.gov/fedreg and the Government Printing Office's web site at: http://www.access.gpo.gov/nara.

Background

With this notice of intent, the FHWA and the NPS are initiating the National Environmental Policy Act (NEPA) process including the preparation of an environmental impact statement, for the Manassas National Battlefield Bypass to study potential alternatives to relocate US Route 29 and VA Route 234 in, and in the vicinity of, the Manassas National Battlefield Park in Manassas, Virginia. In 1988, the Congress enacted Public Law 100-647, 102 Stat. 3342, 3810. Title X of this Act is cited as the Manassas National Battlefield Park Amendments of 1988. In section 1004, the legislation states that:

[T]he Secretary of the Interior * * * in consultation with the Commonwealth of Virginia, the Federal Highway Administration, and Prince William County, shall conduct a study regarding the relocation of highways (known as Routes 29 and 234) in, and in the vicinity of, the Manassas National Battlefield Park. * * * The study shall include an assessment of available alternatives, together with cost estimates and recommendations regarding preferred options. The study shall specifically consider and develop plans for the closing of those public highways (known as Routes 29 and 234) that transect the park and shall include analysis of the timing and method of such closures and of means to provide alternative routes for traffic now transecting the park. The Secretary shall provide for extensive public involvement in the preparation of the study.

Recognizing that NEPA requires the consideration of a reasonable range of alternatives that will address the Purpose and Need, the environmental impact statement will include a range of alternatives for detailed study consisting of a no-build alternative as well as other alternatives including transportation system management strategies, mass transit, improvements to existing roadways, and/or new alignment facilities. These alternatives will be developed, screened, and subjected to detailed analysis in the draft environmental impact statement based on their ability to address the Purpose and Need, while attempting to avoid known and sensitive resources.

Letters describing the proposed NEPA study and soliciting input will be sent to the appropriate Federal, State and local agencies who have expressed or are known to have an interest or legal role in this proposal. It is anticipated that a formal scoping meeting will be held as part of the NEPA process to facilitate local, state, and federal agency involvement. Private organizations, citizens, and interest groups will also have an opportunity to provide input into the development of the Environmental Impact Statement and identify issues that should be addressed. A comprehensive public participation program will be developed to involve the public in the project development process. Notices of public meetings or public hearings will be given through various forums providing the time and place of the meeting along with other relevant information. The draft environmental impact statement will be available for public and agency review and comment prior to the public meetings/hearings.

To ensure that the full range of issues related to this proposed action are identified and taken into account, comments and suggestions are invited from all interested parties. Comments and questions concerning this notice of proposed action and when the draft environmental impact statement is made available should be directed to the FHWA at the address provided under the caption For Further Information Contact.

(Catalog of Federal Domestic Assistance Program Number 20.205, Highway Planning and Construction. The regulations implementing Executive Order 12372 regarding intergovernmental consultation on Federal programs and activities apply to this proposed action.)

Authority: [23 U.S.C. 315; 49 CFR 1.48]

Issued on: October 18, 2001.
Donald R. Tuggle,
Director, Program Administration, Federal Highway Administration, Sterling, Virginia.
Terry Carlstrom,
Regional Director, National Park Service, National Capital Region, Washington, DC.

[FR Doc. 01-27410 Filed 10-31-01; 8:45 am]

BILLING CODE 4910-22-P